DEPARTMENT OF TRANSPORTATION

Federal Aviation Administration

Eighteenth Meeting: RTCA Special Committee 217—Aeronautical Databases Joint With EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held December 2 through December 6, 2013, from 9:00 a.m. to 5:00 p.m.

ADDRESSES: The meeting will be hosted by Boeing, 100 Boeing Way B-82, Titusville, Florida 32780, USA. Pre-registration for this meeting is required to accommodate the Boeing Facility Requirements. Information is to be provided to Brian Gilbert (brian.d.gilbert@boeing.com). US citizens need to provide their full names and company names in an email to Brian. Non-US persons need to fill out the Non-US Person Badge form available on RTCA Workspace.

FOR FURTHER INFORMATION CONTACT: Sophie Bousquet, SBousquet@rtca.org, 202-330-0663 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of RTCA Special Committee 217—Aeronautical Databases held jointly with EUROCAE WG-44—Aeronautical Databases. The agenda will include the following:

Monday, December 2—Opening Plenary Session

• Co-Chairmen's remarks and introductions

• Approve minutes from 17th meeting

• Review and approve meeting agenda for 18th meeting

• Review of joint WG-1/WG-2 Action Items

• Review of ISRA from SC-217 to SC-216

• Continuation, “Data Terms Definitions” Review

Monday Thru Thursday, Dec 2 Through Dec 5—Working Group One (WG1)-DO-200A/ED-76

• Discussion of WG-1 open action items

• Standards related to ED-76/DO-200

• Source data considerations

• Tool qualification aspects (including a presentation of DO-330/ED215 by the corresponding RTCA Committee SC Chairman)

• DAL and DQR considerations

• Clarification of terms (user/end-user, end-use/intended use, etc.)

• Aeronautical data flow (text to support the figure agreed in Dublin)

Monday Thru Thursday, Dec 2 Through Dec 5—Working Group Two (WG2)-DO-272/DO-291

• WG-2 Action Item Status Review

• Terms of Reference for Dec PMC Meeting

• Report on Recent Meetings—European Committee for Standardisation (CEN), Technical Committee (TC) 377 “Air Traffic Management”—WG 2—Aerodrome Mapping Data

• Helicopter Terrain and Obstacle Data—Progress Report

• Airport Lighting Presentation

Closing Plenary Session (9:00 a.m. to Noon)

• Presentation of WG1 and WG2 conclusions

• Working arrangements for the remaining work

• Review of action items

• Next meetings, dates and locations

• Any other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on October 30, 2013.
Paige L. Williams,
Management Analyst, Business Operations Group, ANG-A12, Federal Aviation Administration.

[FR Doc. 2013-26488 Filed 11-4-13; 8:45 am]

BILLING CODE 4910-13-P